ENVIRONMENTAL PROTECTION AGENCY

40 CFR Part 300

[EPA-HQ-SFUND-1910-0010; FRL 9902-79-Region 9]

National Oil and Hazardous Substances Pollution Contingency Plan; National Priorities List: Partial Deletion of the El Toro Marine Corps Air Station Superfund Site

AGENCY: Environmental Protection Agency.

ACTION: Direct final rule.

SUMMARY: The Environmental Protection Agency (EPA) Region IX is publishing a direct final Notice of Deletion of portions of the El Toro Marine Corp Air Station Superfund Site (Site), located in Irvine, California, from the National Priorities List (NPL). The NPL, promulgated pursuant to section 105 of the Comprehensive Environmental Response, Compensation, and Liability Act (CERCLA) of 1980, as amended, is an appendix of the National Oil and Hazardous Substances Pollution Contingency Plan (NCP). This direct final partial deletion is being published by EPA with the concurrence of the State of California through the Department of Toxic Substances Control (DTSC), because EPA has determined that all appropriate response actions at these identified parcels under CERCLA have been completed. However, this partial deletion does not preclude future actions under Superfund.

This partial deletion pertains to all Site media, including soil and groundwater, of parcels I-A, II-A, III-A, II-J, II-Q, II-S, II-T, III-C, I-C, II-U, I-B, I-E, I-G, I-H, I-I, I-J, I-L, I-M, I-P, II-G, II-I, II-P, III-D, I-K, I-N, I-O, I-S, II-E, II-L, II-M, II-R, I-Q, I-R, II-B, II-K, and II-O of the Site. The current remaining areas of the Site will remain on the NPL and are not being considered for deletion as part of this action.

DATES: This direct final partial deletion is effective January 21, 2014 unless EPA receives adverse comments by December 19, 2013. If adverse comments are received, EPA will publish a timely withdrawal of the direct final partial deletion in the Federal Register informing the public that the partial deletion will not take effect.

ADDRESSES: Submit your comments, identified by Docket ID no. EPA-HQ-SFUND-1910-0010, by one of the following methods:

• http://www.regulations.gov. Follow on-line instructions for submitting comments.

• Email: Aycock.Mary@epa.gov.

• Fax: (415) 947-3528.

• Mail: Mary Aycock, U.S. EPA Remedial Project Manager, U.S. Environmental Protection Agency, Region IX, Mail Code SFD-8-1, 75 Hawthorne Street, San Francisco, CA 94105.

• Hand delivery: Mary Aycock, U.S. EPA Remedial Project Manager, U.S. Environmental Protection Agency, Region IX, Mail Code SFD81, 75 Hawthorne Street, San Francisco, CA 94105. Such deliveries are only accepted during the Docket's normal hours of operation, and special arrangements should be made for deliveries of boxed information.

Instructions: Direct your comments to Docket ID no. EPA-HQ-SFUND-1910-0010. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means EPA will not know your identity or contact information unless you provide it in the body of your comment. If you send an email comment directly to EPA without going through http://www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statue. Certain other material, such as copyrighted material, will be publicly available only in hard copy. Publicly available docket materials are available either electronically in http://www.regulations.gov or in hard copy at:

Superfund Records Center, Mail Stop SFD-7C, 95 Hawthorne Street, Room 403, San Francisco, CA 94105. Phone: (415) 820-4700. Hours: Mon. thru Fri.—8 a.m. to 5 p.m.

Heritage Park Regional Library, Reference Section, 14361 Yale Street, Irvine, CA 92714. Phone: (949) 936-4040. Hours: Mon. thru Thu.—10 a.m. to 9 p.m.; Sat.—10 a.m. to 5 p.m.; Sun.—12 p.m. to 5 p.m.

FOR FURTHER INFORMATION CONTACT: Mary Aycock, Remedial Project Manager, U.S. Environmental Protection Agency, Region IX, Mail Code SFD81 75 Hawthorne Street, San Francisco, CA 94105, (415) 972-2389, email: Aycock.Mary@epamail.epa.gov.

SUPPLEMENTARY INFORMATION:

Table of Contents

I. Introduction

II. NPL Deletion Criteria

III. Partial Deletion Procedures

IV. Basis for Site Partial Deletion

V. Partial Deletion Action

I. Introduction

EPA Region IX is publishing this direct final Notice of Partial Deletion for the El Toro Marine Corp Air Station (Site), from the National Priorities List (NPL). This partial deletion pertains to all Site media, including soil and groundwater, of parcels I-A, II-A, III-A, II-J, II-Q, II-S, II-T, III-C, I-C, II-U, I-B, I-E, I-G, I-H, I-I, I-J, I-L, I-M, I-P, II-G, II-I, II-P, III-D, I-K, I-N, I-O, I-S, II-E, II-L, II-M, II-R, I-Q, I-R, II-B, II-K, and II-O of the Site. The properties proposed for deletion are shown in the map available in the partial deletion docket and will be referred to hereafter as “the properties proposed for deletion.” The NPL constitutes Appendix B of 40 CFR part 300 which is the Oil and Hazardous Substances Pollution Contingency Plan (NCP), which EPA promulgated pursuant to Section 105 of the Comprehensive Environmental Response, Compensation and Liability Act (CERCLA) of 1980, as amended. EPA maintains the NPL as the list of sites that appear to present a significant risk to public health, welfare, or the environment. Sites on the NPL may be the subject of remedial actions financed by the Hazardous Substance Superfund (Fund). This partial deletion of the El Toro Marine Corp Air Station is proposed in accordance with 40 CFR 300.425(e) and is consistent with the Notice of Policy Change: Partial Deletion of Sites Listed on the National Priorities List. 60 FR 55466 (Nov. 1, 1995). As described in 300.425(e)(3) of the NCP, a portion of a site deleted from the NPL remains eligible for Fund-financed remedial action if future conditions warrant such actions.

Because EPA considers this action to be noncontroversial and routine, this action will be effective January 21, 2014 unless EPA receives adverse comments by December 19, 2013. Along with this direct final Notice of Partial Deletion, EPA is co-publishing a Notice of Intent for Partial Deletion in the “Proposed Rules” section of the Federal Register. If adverse comments are received within the 30-day public comment period on this partial deletion action, EPA will publish a timely withdrawal of this direct final Notice of Partial Deletion before the effective date of the partial deletion and the partial deletion will not take effect. EPA will, as appropriate, prepare a response to comments and continue with the deletion process on the basis of the Notice of Intent for Partial Deletion and the comments already received. There will be no additional opportunity to comment.

Section II of this document explains the criteria for deleting sites from the NPL. Section III discusses procedures that EPA is using for this action. Section IV discusses the properties proposed for deletion of El Toro Marine Corp Air Station and demonstrates how they meet the deletion criteria. Section V discusses EPA's action to partially delete the Site parcels from the NPL unless adverse comments are received during the public comment period.

II. NPL Deletion Criteria

The NCP establishes the criteria that EPA uses to delete sites from the NPL. In accordance with 40 CFR 300.425(e), sites may be deleted from the NPL where no further response is appropriate. In making such a determination pursuant to 40 CFR 300.425(e), EPA will consider, in consultation with the State, whether any of the following criteria have been met:

i. Responsible parties or other persons have implemented all appropriate response actions required;

ii. all appropriate Fund-financed response under CERCLA has been implemented, and no further response action by responsible parties is appropriate; or

iii. the remedial investigation has shown that the release poses no significant threat to public health or the environment and, therefore, the taking of remedial measures is not appropriate.

Pursuant to CERCLA section 121(c) and the NCP, EPA conducts five-year reviews to ensure the continued protectiveness of remedial actions where hazardous substances, pollutants, or contaminants remain at a site above levels that allow for unlimited use and unrestricted exposure. EPA conducts such five-year reviews even if a site is deleted from the NPL. EPA may initiate further action to ensure continued protectiveness at a deleted site if new information becomes available that indicates it is appropriate. Whenever there is a significant release from a site deleted from the NPL, the deleted site may be restored to the NPL without application of the hazard ranking system.

III. Partial Deletion Procedures

The following procedures apply to the properties proposed for deletion:

(1) EPA has consulted with the state of California prior to developing this direct final Notice of Partial Deletion and the Notice of Intent for Partial Deletion co-published in the “Proposed Rules” section of the Federal Register.

(2) EPA has provided the state 30 working days for review of this notice and the parallel Notice of Intent for Partial Deletion prior to their publication today, and the state, through the Department of Toxic Substances Control, has concurred on the partial deletion of the Site from the NPL.

(3) Concurrently with the publication of this direct final Notice of Partial Deletion, a notice of the availability of the parallel Notice of Intent for Partial Deletion is being published in a major local newspaper, the Orange County Register. The newspaper notice announces the 30-day public comment period concerning the Notice of Intent for Partial Deletion of the Site from the NPL.

(4) The EPA placed copies of documents supporting the partial deletion in the deletion docket and made these items available for public inspection and copying at the Site information repositories identified above.

(5) If adverse comments are received within the 30-day public comment period on this partial deletion action, EPA will publish a timely notice of withdrawal of this direct final Notice of Partial Deletion before its effective date and will prepare a response to comments and continue with the deletion process on the basis of the Notice of Intent for Partial Deletion and the comments already received.

Deletion of a portion of a site from the NPL does not itself create, alter, or revoke any individual's rights or obligations. Deletion of a portion of a site from the NPL does not in any way alter EPA's right to take enforcement actions, as appropriate. The NPL is designed primarily for informational purposes and to assist EPA management. Section 300.425(e)(3) of the NCP states that the deletion of a site from the NPL does not preclude eligibility for further response actions, should future conditions warrant such actions.

IV. Basis for Site Partial Deletion

The following information provides EPA's rationale for deleting the properties proposed for deletion from the NPL:

Site Background and History

The former El Toro Marine Corps Air Station (EPA ID: CA6170023208), (El Toro MCAS) covering approximately 4,712 acres in the City of Irvine, County of Orange, California is located at 33 degrees (°) 38 minutes (′) to 33°41′ north latitude,117°41′ to 117°45′ west longitude, Township 6 South, Range 6 West (T6S/R6W) (Sections 2-5, 7-11, 16-17, 20-21) and T5S/R8W (Sections 32-33, 35).

Development of former El Toro MCAS began in July 1942, when construction of a United States Marine Corps pilot's fleet operational training facility began on approximately 2,319 acres of land in Orange County, California. The Site was commissioned as El Toro Marine Corps Air Station on March 17, 1943. In 1950, the Station was selected for development as a master jet air station and permanent center for marine aviation of the west coast to support the operations and combat readiness of Fleet Marine Forces, Pacific. Between 1944 and 1986, additional land was acquired to bring the size of the on-station portion of the installation to 4,712 acres.

Major activities at the Site contributing to the generation of hazardous wastes included vehicle maintenance, ground support maintenance, aircraft maintenance, and aircraft corrosion control. Other waste generating activities included munitions disposal, pest control, fire protection training, and laboratory operations including photo development, non-destructive inspection, and fuel analysis. Wastes generated by the maintenance operations included spent solvents and waste oils (including TCE, TCA, MEK, toluene, and PD-680), fuels, greases removed from the spent solvents, and spent strippers. Aircraft washrack activities resulted in discharge of alkaline soaps, detergents, and small amounts of PD-680. Vehicle and aircraft waste discharge produced the greatest volume of industrial waste of any of the base activities.

A number of potentially contaminated areas were identified on the Site, including four landfills suspected of containing both hazardous and solid waste, and other areas where polychlorinated biphenyls (PCBs), battery acids, leaded fuels, and other hazardous substances were suspected of being dumped or spilled. A Remedial Investigation (RI) conducted by El Toro MCAS identified volatile organic compounds (VOCs), primarily trichloroethene (TCE), in groundwater that migrated more than three miles off base. The primary source of the groundwater contamination was two large aircraft hangars. Land irrigated by wells is located within three miles of the site; however, none of these wells are drinking water sources. Surface water flows into the Upper Newport Bay Ecological Reserve, located approximately eight miles from the base.

In recent years, portions of the Site were transferred to different governmental agencies. In 1998, the Bake Parkway/Interstate 5 public highway expansion project was completed resulting in the transfer of approximately 23 acres to the California Department of Transportation. In 2001, 896.7 acres in the northeast portion of the station were transferred to the Federal Aviation Administration.

The Site was decommissioned as an active base in July 1999. The parcels to be deleted from the NPL have all been transferred from the Department of the Navy (DON) to Heritage Fields LLC (Heritage Fields) under the Base Realignment and Closure Act of 1995. Heritage Fields plans to build a combination of residential, commercial, retail and educational facilities on Site. In addition, Heritage Fields has transferred 1,387 acres to the City of Irvine to create the Orange County Great Park. The Orange County Great Park will be home to a world-class Olympic-style sports village and entertainment center, a new high school and neighborhood elementary schools, and infrastructure and support for a substantially expanded Irvine transportation center. Redevelopment efforts are on-going.

The Site was proposed to be placed on the NPL on June 24, 1988 (53 FR 23988); and was placed on the NPL on February 21, 1990 (55 FR 6154). In October 1990, the U.S. EPA (EPA), California Department of Health Services (CDPH) (the CDPH was the predecessor program to the California Department of Health Toxic Substances Control (DTSC)), California Regional Water Quality Control Board (RWQCB) and the DON signed a Federal Facility Agreement (FFA) which formalized the process for environmental response actions and the relative roles of the EPA, state agencies, and the DON under CERCLA and the Installation Restoration Program (IRP). The FFA was signed by the EPA, the State of California, and the DON in October 1990.

Environmental Baseline Surveys (EBSs), which identify parcels of land for sale, lease, or needing further investigation, were completed in 1995 and 2003. The EBSs identified environmental factors and locations of concern (LOCs) where further evaluation and/or actions were ongoing or required. Once identified, these LOCs were reviewed by the DON, state regulatory agencies and EPA. Based upon this review, sites were either recommended for no further action (NFA) or for further sampling. Based upon the subsequent sampling, those sites either became NFA sites or proceeded to the more extensive Comprehensive Environmental Response, Compensation, and Liability Act (CERCLA) cleanup process.

The portions of the Site to be deleted from the NPL include 1,900.4 acres of contiguous property. All of these parcels have been transferred from the DON to Heritage Fields. Prior to transferring property at El Toro MCAS, the DON was required, pursuant to Section 102(h) of CERCLA, to document that all environmental impacts associated with the DON's activities on the Site had been thoroughly investigated and appropriate remedial actions have been taken to protect the public health, welfare, and the environment. DON presented this documentation in a series of successive Finding of Suitability to Transfer (FOST) documents. In each case, the FOST described the LOCs on the property to be transferred and the investigation and remedial actions taken at those properties to obtain concurrence from the EPA, CDPH/DTSC and RWQCB. A total of 7 FOSTs were finalized for all parcels to be deleted between July 2005 and September 2012.

LOC site narratives where release, disposal, and/or migration of hazardous substances occurred, but at concentrations that did not require a removal or remedial action because site conditions were found to be protective of both human health and the environment may be found in a tables appendix in the Deletion Docket. This appendix does not include LOCs that were only contaminated with petroleum, as these sites are not subject to CERCLA based on the petroleum exemption. In total, 112 such LOCs were thoroughly evaluated and recommended for no further action.

This partial deletion covers the following Site parcels: I-A, II-A, III-A, II-J, II-Q, II-S, II-T, III-C, I-C, II-U, I-B, I-E, I-G, I-H, I-I, I-J, I-L, I-M, I-P, II-G, II-I, II-P, III-D, I-K, I-N, I-O, I-S, II-E, II-L, II-M, II-R, I-Q, I-R, II-B, II-K, and II-O. A map identifying the areas to be deleted, as well as the areas to remain on the NPL, is available in the partial deletion docket.

1. Property Covered by FOST #1

Approximately 2,798 acres of the Site were covered by FOST #1, including 1,070.2 acres that EPA determined had not been impacted by hazardous waste and that therefore were not part of the NPL. These two areas of the Site were removed from the NPL through two clarification letters issued by EPA. Clarification Areas A, B, C, and D, consisting of 978.6 acres, were removed from the NPL through an EPA clarification letter dated October 27, 2005. Clarification Area E, consisting of 91.6 acres, was removed from the NPL through an EPA clarification letter dated March 21, 2006.

The unclarified portions of the FOST #1 area consisted of three Transfer Parcels: Transfer Parcels I-A, II-A, and III-A.

1.1 Transfer Parcel I-A

Transfer Parcel I-A was approximately 809.5 acres. This parcel contained 225 non-demolished buildings/structures/facilities including the units located in the Saddleback Terrace housing area. In addition, Parcel I-A contained IRP Site 20—Hobby Shop and a portion of IRP Site 25—Major Drainages.

1.1.1 IRP Site 20—Hobby Shop

Site Location and History

IRP Site 20—Hobby Shop encompassed approximately 0.5 acre immediately northwest of the intersection of North 9th Street and West Marine Way and included Building 626. Beginning in 1967, the site was used as an auto shop for military personnel to service and repair privately owned vehicles. Kerosene was reportedly used to wash down the paved area at the site until approximately 1976. The wash runoff drained into a catch basin situated in the entry driveway and finally drained into an oil/water separator (OWS). From 1976 until closure of the Hobby Shop in 1999, a biodegradable soap was used in place of kerosene.

Site 20 originally consisted of four units:

• Unit 1—Shallow Drainage Swale (1-2 feet below grade), adjacent to the east side of Building 626.

• Unit 2—South Drainage Ditch, ran along North 9th Street

• Unit 3—Stained Area, small area adjacent to the northwest side of Building 626

• Unit 4—Inner Courtyard of Building 626, an entry driveway, and a front-sloping area adjacent to the drainage ditch along North 9th Street. The inner portion was paved with asphalt. The entry driveway was concrete and crossed over the drainage ditch. The front area was covered with grass with some bare spots and various trees.

Remedial Investigations

Investigations at the IRP Site 20 included a RCRA Facility Assessment (RFA), a Phase I RI, aerial photograph surveys in 1993, and a Phase II RI in 1996. In 1997, Units 2 and 3 were excluded from the site based on the CERCLA petroleum exemption, 42 U.S.C. 9601(14)(F). Sites containing only petroleum contamination were, and continue to be remediated under the oversight of the RWQCB).

Soil sampling identified VOCs, semi-volatile organic compounds (SVOCs), PCBs, and pesticides at the site, all below residential PRGs. Arsenic was detected at concentrations above the former El Toro MCAS background value. The RI of the site indicated that the site-related contamination was limited to the shallow soil interval.

Selected Remedy

The human health and ecological risk assessments showed that the contaminants present in the soil did not present an unacceptable risk to human health or the environment. Therefore, no remedial action was required. A Record of Decision (ROD) for NFA was signed on September 30, 1997. No risks are present at IRP Site 20 and no institutional controls are present.

Response Actions and Cleanup Standards

No response actions have been taken and no cleanup standards have been set.

Operation and Maintenance

No operation and maintenance is required for this site.

1.1.2 IRP Site 25—Major Drainages

IRP Site 25 encompassed approximately 22 acres and comprised the four major washes that flowed through former El Toro MCAS. These included Agua Chinon Wash, Bee Canyon Wash, Borrego Canyon Wash, and Marshburn Channel. Three of these drainages (Agua Chinon Wash, Bee Canyon Wash, and Borrego Canyon Wash) were continuations of natural washes that originated in the Santa Ana Mountains. Surface drainage from the hills and upgradient irrigated farmland combined with runoff generated from extensive paved surfaces at former El Toro MCAS. The on-station storm sewer system discharged to the drainage channels, which then flowed into San Diego Creek. San Diego Creek discharged into upper Newport Bay, about 7 miles downstream from its intersection with Marshburn Channel. These washes traversed Transfer Parcels I-A, II-A, and III-A, and also traversed property that was not part of FOST #1.

Remedial Investigations

IRP Site 25 was constituted before the source of the regional VOC groundwater contamination had been identified as IRP Site 24 (which is not part of this deletion). IRP Site 25 was identified for a Phase II RI, but the drainages were investigated as part of the Phase I RI for IRP Sites 18 and 24 to evaluate the source of the off-site VOC groundwater plume. Potential contamination within the major drainages and San Diego Creek was assessed by analyzing surface water, sediment, soil, and soil gas samples. Except for the Borrego Canyon Wash, metals and pesticides were detected above former El Toro MCAS background concentrations in all drainages. Significant petroleum hydrocarbon contamination was detected at depths of 15 to 20 feet below ground surface (bgs) at the southern end of Agua Chinon Wash, near the former El Toro MCAS boundary.

Within the Agua Chinon Wash, total petroleum hydrocarbons (TPH) were detected at depths up to 57 feet bgs. The RI of the site indicated that the site-related contamination was limited to sediment and surface water.

Selected Remedy

The human health and ecological risk assessments showed that the contaminants present in these media did not present an unacceptable risk to human health or the environment. Therefore, no remedial action was required. The Draft Final RI Report was completed in 1997, and a ROD for NFA was signed on September 30, 1997. No risks are present at IRP Site 25 and no institutional controls are present.

Response Actions and Cleanup Standards

No response actions have been taken and no cleanup standards have been set.

Operation and Maintenance

No operation and maintenance is required for this site.

1.2 Transfer Parcel II-A

Transfer Parcel II-A was approximately 1,439.6 acres. This parcel contained a golf course and 1,078 non-demolished buildings/structures/facilities which included the units located in San Joaquin, Vista Terrace, Navy/Marine (NAMAR), and Wherry housing areas. Transfer Parcel II-A included IRP Sites 6 and 19, and a portion of IRP Site 25 (described above).

1.2.1 IRP Site 6—Drop Tank Drainage Area No. 1

Site Location and History

IRP Site 6 encompassed approximately 3 acres bounded by taxiways to the north and west, a concrete aircraft parking apron to the east, and East Marine Way to the south. The site consisted of three units:

• Unit 1 was an area along the edge of a concrete parking apron where aircraft drop tanks were formerly drained of residual jet fuel and then cleaned prior to reuse.

• Unit 2 was a shallow drainage swale that extends from the north side of Building 727, west to a catch basin that eventually discharged into the Agua Chinon Wash. The catch basin received surface runoff and sediment from the site.

• Unit 3 was a flat, grass-covered area south of the drainage swale where drop tanks were stored.

From 1969 to 1983, aircraft drop tanks were transported to the site where the fuel remaining in the tanks was drained. Residual jet propulsion fuel, grade 5 (JP 5) in the tanks was drained to the concrete apron, and the combined fuel/rinse water ran onto the adjacent grassy area. In addition to fuel, waste lubricant oils from maintenance operations were also reportedly stored in drums and staged in the area.

Approximately 1,400 gallons of JP 5 fuel were reportedly drained from the drop tanks onto the concrete apron and washed onto the adjacent area. Portions of the unpaved areas at the site were also reportedly used for storing oil drums. It was estimated that approximately 300 gallons of waste oil leaked from these storage drums at the site.

Remedial Investigations

Investigations conducted at IRP Site 6 included a Phase I remedial investigation (RI) and aerial photograph surveys in 1993, employee interviews in 1994, and a Phase II RI in 1996. During the investigations, VOCs, SVOCs, and polynuclear aromatic hydrocarbons were detected at concentrations below residential PRGs. The maximum arsenic concentration was detected at a depth of Property of 8-10 feet bgs and was above the former El Toro MCAS background concentration for arsenic. The RI of the site indicated that the site-related contamination was limited to the shallow soil interval.

Selected Remedy

The human health and ecological risk assessments indicated that the contaminants present in the soil did not present an unacceptable risk to human health or the environment. Therefore, no remedial action was required. A ROD for NFA was signed on September 30, 1997.

Response Actions and Cleanup Standards

No response actions have been taken and no cleanup standards have been set.

Operation and Maintenance

No operation and maintenance is required for this site.

1.2.2 IRP Site 19—Aircraft Expeditionary Refueling Site

Site Location and History

IRP Site 19 was within Transfer Parcel II-A and encompassed approximately 4 acres southwest of Buildings 404 and 414. Between 1964 and 1986, the site operated as a fuel-storage and fuel-dispensing area. The site consisted of six 20,000-gallon JP 5 fuel bladders in 4-foot-high earthen revetments and associated piping and fuel-dispensing equipment. The site originally consisted of four units:

• Unit 1, Northeast Stained Area

• Unit 2, Excavated Areas;

• Unit 3, Stained Area Around Excavations; and

• Unit 4, Pump Station (this area was added for the Phase II RI and then was removed under the CERCLA petroleum exclusion).

Initial Response

Various spills and leaks reportedly occurred during operation of the site. In one instance, an estimated 20,000 gallons of JP 5 were reportedly released after a bladder rupture. Petroleum hydrocarbons were detected in the soil beneath the ruptured bladder.

The fuel bladders were removed in 1986, and the soil was excavated to a maximum depth of 15 feet bgs in a 30-foot-square area beneath the location of the bladder rupture (Unit 2). The excavation was partially backfilled to a depth of approximately 11 feet in 1994. Prior to backfill, soil samples were collected within the excavated area, i.e., IRP Site 19. No chemicals of potential concern were detected at concentrations greater than EPA industrial PRGs. In 1996, the remaining excavation was backfilled to grade the surrounding area with clean fill material. An additional 19,000-square-foot area beneath the locations of the other bladders was also excavated in 1986 to a depth of approximately 2.5 feet. All of the buildings/structures/facilities at the site were removed following site closure and were replaced by a pump station and UST complex situated adjacent to the east side of the site.

Remedial Investigations

Investigations conducted at the site included a Phase I RI and aerial photograph surveys in 1993, employee interviews in 1994, and a Phase II RI in 1996. The investigations indicated SVOCs at concentrations below residential PRGs, with the exception of benzo(a)pyrene, which was above the industrial PRG value. VOCs were detected at concentrations below residential PRGs. Arsenic was detected at concentrations above the industrial PRG value, and the maximum arsenic value was above the former El Toro MCAS background concentration.

Selected Remedy

The human health and ecological risk assessments showed that the contaminants present in the soil did not present an unacceptable risk to human health or the environment. A ROD for NFA for Units 2 and 3 was signed on September 30, 1997. Unit 1 was excluded from the IRP under the CERCLA petroleum exclusion in 1995 (closed by RWQCB in a letter dated May 14, 1997), and Unit 4 was excluded from the IRP under the CERCLA petroleum exclusion in 1997 (Unit 4 was being addressed with a number of USTs and the associated area was therefore unsuitable for transfer and was not part of FOST #1).

Response Actions and Cleanup Standards

No further response actions have been taken.

Operation and Maintenance

No operation and maintenance is required for this site.

1.2.3 PCB T56, concrete pad of transformer 56

Site Location and History

A minor release of transformer oil containing PCBs

Selected Remedy

No risks are present at PCB T56 and no institutional controls are present.

Response Actions and Cleanup Standards

The transformer was replaced and the concrete pad was removed. No further action was required.

Operation and Maintenance

No operation and maintenance is required for this site.

1.3 Transfer Parcel III-A

Transfer Parcel III-A was approximately 329.0 acres. This parcel contained 10 non-demolished buildings/structures/facilities, as well as a portion of IRP Site 13.

1.3.1 IRP Site 13—Oil Change Area

Site Location and History

IRP Site 13 encompassed approximately 34,000 square feet and was bounded on the north by Former Tank Farm No. 2 and on the south by the storage yard for Building 242. The site was situated within Transfer Parcel III-A and Carve-Out (CO) III-B. The site was relatively flat, unpaved, and generally unvegetated. Site 13 consisted of two units: Unit 1 comprised the area southeast of Tank Farm No. 2 and Unit 2 comprised the area southwest of Tank Farm No. 2. Trucks were driven to the area southeast of the tank farm (Unit 1) for oil changes, and crank case oil was frequently drained onto the ground. From 1977 to 1983, approximately 7,000 gallons of waste oil were drained onto the ground. The oily soil was subsequently removed, and no visible evidence of the oily soil remained. A review of aerial photographs indicated heavy staining throughout the area between the tank farm and Building 242 (Unit 2), which persisted over the years of photographic record. It is likely that oil changes were also conducted in that area.

Remedial Investigations

Investigations conducted at the site included an RFA, a Phase I RI and aerial photographic surveys in 1993, and employee interviews in 1994. VOCs, SVOCs, polynuclear aromatic hydrocarbons, and pesticides were detected at concentrations below residential PRGs. Arsenic was detected at concentrations above the industrial PRG from the surface to a depth of 80 feet bgs. The maximum arsenic concentration was below the former El Toro MCAS background concentration. Total recoverable petroleum hydrocarbons (TRPH) were detected at the soil surface and at a depth of 5 feet bgs. Based on the results of the Phase I RI investigation, a Phase II RI was not recommended. The RI of the site indicated that the site-related contamination was limited to the shallow soil interval.

Selected Remedy

The human health and ecological risk assessments showed that the contaminants present in the soil did not present an unacceptable risk to human health or the environment. A ROD for NFA was signed on September 30, 1997.

Response Actions and Cleanup Standards

No response actions have been taken and no cleanup standards have been set.

Operation and Maintenance

No operation and maintenance is required for this site. No deed restrictions were recommended for Site 13 due to chemicals present in the soil. However since the groundwater beneath Site 13 was contaminated by trichloroethylene (TCE) and tetrachloroethylene (PCE; also perchloroethylene) due to Site 24—VOC source area, when the NFA ROD was signed on September 30, 1997, the use restrictions prohibiting drilling of wells and/or extraction of groundwater and allowing access for groundwater monitoring and maintenance of equipment associated with groundwater remediation were to be addressed in the ROD for Site 18 and Site 24. When the Final ROD for Site 18 and Site 24 was completed in 2002, the updated VOC plume and 500 foot buffer zone were no longer located beneath Site 13. Consequently, groundwater restrictions due to the Site 24 VOC plume were no longer applicable for Site 13.

2. Property Covered by FOST #2

Approximately 8 acres of El Toro MCAS were covered by FOST #2. This area consisted of four Transfer Parcels (II-J, II-S, II-T, and III-C), and a portion of one Transfer Parcel (II-Q). Transfer parcels II-J and II-Q did not contain any CERCLA LOCs. Transfer Parcel II-T was approximately 0.5 acres in size and contained one building/structure/facility (Building 761). Transfer Parcel III-C was approximately 1 acre in size and contained one building/structure/facility (Building 240). NFA determinations were made for all LOCs within Transfer Parcels II-T and III-C.

2.1 Transfer Parcel II-S

Transfer Parcel II-S was approximately 1.3 acres in size and included six buildings/structures/facilities (Buildings 374, 377, 447, 448, 566, and 726) and former Building 603 (demolished).

2.1.1 RFA 131

Site Location and History

RFA 131, an engine test cell, was located within Transfer Parcel II-S near Building 447.

Initial Response

Near surface soils were removed in 1997.

Selected Remedy

DTSC concurred with NFA in a letter from July 1999. RWQCB concurred with NFA in June 2000.

Response Actions and Cleanup Standards

No further response actions have been taken.

Operation and Maintenance

No operation and maintenance is required for this site.

3. Property Covered by FOST #3

Approximately 3.9 acres of El Toro MCAS were covered by FOST #3.

Site Location and History

This area consisted of two Transfer Parcels referred to in FOST #3 as “Carve-Outs” (COs):

• CO I-C consisted of approximately 0.1 acre in the northeastern portion of the former base. This CO was created during preparation of the 2004 Finding of Suitability to Lease when a portion of an underground pipeline (Norwalk-El Toro Pipeline) was believed to exist within this area. However, based on a detailed review of the pipeline physical alignment, it was determined that no portion of the pipeline was within Transfer Parcel I-C. No buildings or utilities were located on the Transfer Parcel.

• CO II-U consisted of approximately 3.8 acres in the northeastern portion of the former base. No buildings or utilities were located on the CO.

Initial Response

A portion of the Norwalk-El Toro Pipeline was removed from CO II-U in the fall of 2006, with the exception of approximately 100 feet of pipeline that remains under Agua Chinon Wash.

Remedial Investigations

The COs were evaluated during the initial phase of environmental assessment and the results were documented in the Final 2003 EBS. The EBS concluded that no hazardous substances were stored or released on the COs.

Selected Remedy

No further action was necessary in these areas.

Response Actions and Cleanup Standards

No response actions have been taken and no cleanup standards have been set.

Operation and Maintenance

No operation and maintenance is required for this site.

4. Property Covered by FOST #4

Approximately 42.9 acres of El Toro MCAS were covered by FOST #4.

Site Location and History

This area consisted of thirteen COs: COs I-B, I-E, I-G, I-H, I-I, I-J, I-L, I-M, I-P, II-G, II-I, II-P, III-D. COs I-L, I-M, I-P, II-G, II-I, and II-P did not contain CERCLA LOCs.

Remedial Investigations

As these COs did not contain CERCLA LOCs, no remedial investigations were conducted.

Selected Remedy

No Further Action determinations were issued for all LOCs within COs I-B, I-E, I-G, I-H, I-I, I-J, and II-G. CO III-D contained a portion of IRP Site 13. All other LOCs in CO III-D received NFA determinations and no cleanup was required.

Response Actions and Cleanup Standards

No response actions have been taken and no cleanup standards have been set.

Operation and Maintenance

No operation and maintenance is required for these sites.

5. Property Covered by FOST #5

Approximately 119.3 acres of El Toro MCAS were covered by FOST #5.

Site Location and History

This area included nine COs: COs I-F, I-K, I-N, I-O, I-S, II-E, II-L, II-M, II-R, and CO Building 746. CO I-F is not part of this deletion request and will remain on the NPL. CO Building 746 is located within CO II-D and is not part of this partial deletion request and will also remain on the NPL. COs I-K, I-N, I-O, I-S contained only petroleum LOCs or no release, disposal, and/or migration of hazardous substances occurred there.

Remedial Investigations

As these COs did not contain CERCLA LOCs, no remedial investigations were conducted.

Selected Remedy

No Further Action determinations were issued for all LOCs within CO II-E and II-M. CO II-L contained a portion of IRP Site 25. All other LOCs in CO II-L received NFA determinations and no cleanup was required.

Response Actions and Cleanup Standards

No response actions have been taken and no cleanup standards have been set.

Operation and Maintenance

No operation and maintenance is required for these sites.

5.1 CO II-R

CO II-R consisted of approximately 1.2 acres and was located in the southeast portion of the former base.

5.1.1 Resource Conservation and Recovery Act (RCRA) Facility Assessment (RFA) Site 244/PCB T74

Site Location and History

There was one pad-mounted transformer (PCB T74) at Building 457. Historically, disposal activities were conducted at this site, though the dates of these operations are unknown. A response action was required for releases of transformer oil containing PCBs at Building 457 (RCRA Facility Assessment (RFA) Site 244).

Remedial Investigations

While no remedial investigations were conducted under CERCLA, RFA Site 244/PCB T74 was evaluated under a RCRA Facility Assessment.

Selected Remedy

DTSC concurred with NFA for RFA 244 in a letter dated December 1998. EPA and DTSC concurred with NFA for PCB T74 in September 2003.

Response Actions and Cleanup Standards

Shallow soil samples that were collected in the area affected by the PCB release identified PCBs in one of the seven samples collected. The transformer was replaced and removal of impacted soils was completed in 1997. The response action was completed and closed in December 1998. No evidence of a release was observed during the visual site inspections conducted for the 2003 EBS. Building 457 was subsequently demolished to its foundation.

Operation and Maintenance

No operation and maintenance is required for this site.

6. Property Covered by FOST #6

Approximately 356.81 acres of El Toro MCAS were covered by FOST #6.

Site Location and History

This area included eleven COs: COs I-D, I-Q, I-R, II-B, II-K, II-N, II-O, III-B-1, III-B-2, III-E, and III-F. COs I-Q and I-R contained only petroleum LOCs and were therefore subject to the CERCLA petroleum exclusion, or no release, disposal, and/or migration of hazardous substances occurred there. As a result, these COs are not discussed in this document. Additionally, COs I-D, II-N, III-B-1, III-B-2, III-E, and III-F are not part of this partial deletion request and will remain on the NPL.

Remedial Investigations

As these COs did not contain CERCLA LOCs, no remedial investigations were conducted.

Selected Remedy

COs II-K contained a portion of IRP Site 25. All other LOCs in CO II-K received NFA determinations and no cleanup was required. All LOCs in CO II-O received NFA determinations and no cleanup was required.

Response Actions and Cleanup Standards

No response actions have been taken and no cleanup standards have been set.

Operation and Maintenance

No operation and maintenance is required for these sites.

6.1 CO II-B

CO II-B consisted of approximately 6.73 acres located in the northeast portion of the former base.

6.1.1 Temporary Accumulation Area (TAA) Site 130C

Site Location and History

TAA 130C was located northing of Building 130.

Remedial Investigations

While no remedial investigations were conducted under CERCLA, TAA 130C was evaluated under a RCRA Facility Assessment. Sampling indicated low levels of arsenic and chlorinated pesticides.

Selected Remedy

TAA 130C received site closure concurrence from DTSC in March 2009. No further action was required.

Response Actions and Cleanup Standards

Contaminated soil was excavated and confirmation soil samples were collected at TAA 130C in 2008.

Operation and Maintenance

No operation and maintenance is required for this site.

7. Property Covered by FOST #7

Approximately 151.06 acres of El Toro MCAS were covered by FOST #7. This area included three COs: COs II-F-1, II-Q, and II-V-1. There were no CERCLA LOCs within CO II-F-1 or CO II-V-1. As a result, COs II-F-1 and II-V-1 are not discussed in this document. Any contamination on these COs was, and continues to be remediated under the oversight of the RWQCB.

7.1 CO II-Q

CO II-Q consisted of approximately 84.49 acres located in the central portion of the former base and contained buildings 114, 124, 125, 126, 127, 230, 231, 363, 372, 642, 658, 677, 698, 716, 747, 752, 763, 779, 903, 923, 938, 952, and 1804. CO II-Q also contained structures 396, 558, 559, 560, 561, 659, 904, 905, 906, 907, 908, 909, 910, and 911. The DON leased this CO to Heritage Fields, LLC, who subsequently assigned the lease for the majority of this CO to the City of Irvine. CO II-Q includes portions of IRP 4 and 25.

7.1.1 IRP Site 4

Site Location and History

IRP Site 4 is located immediately southeast of Building 658, a former jet-engine testing facility. The site is bounded by 9th Street to the south, Building 658 to the north and west, and Tank Farm No. 5 to the east. The IRP Site 4 consists of two units: Unit 1 is an oil-stained area southeast of Building 658 which overlaps a concrete transformer pad, and Unit 2 is a drainage ditch which received runoff from a ferrocene spill.

The staining at Unit 1 was the result of oily discharges from Building 658, which were observed over an approximate 2-year period. The contamination at Unit 2 originated from an August 1983 spill, when the contents of a 500-gallon tank (wash water and residual jet fuel) reportedly overflowed during washing and spilled onto the ground, draining into a ditch adjacent to 9th Street. The spilled liquid reportedly contained approximately 5 gallons of ferrocene and a hydrocarbon carrier solution.

Remedial Investigations

Investigations conducted at IRP Site 4 included a Phase I RI and aerial photograph surveys in 1993. VOCs and SVOCs were below residential PRGs in both units.

Selected Remedy

The human health and ecological risk assessments showed that the contaminants present in the soil did not present an unacceptable risk to human health or the environment. Therefore, no remedial action was required. The NFA ROD was signed on September 30, 1997.

Response Actions and Cleanup Standards

No response actions have been taken and no cleanup standards have been set.

Operation and Maintenance

No operation and maintenance is required for this site.

Five Year Reviews

Cleanup activities at El Toro MCAS have resulted in the remediation of all Site-related contamination such that restrictions on use and/or institutional controls were unnecessary. Accordingly, no Five-Year Reviews were required under CERCLA.

Community Involvement

Public participation activities have been satisfied as required in CERCLA Section 113(k), 42 U.S.C. 9613(k) and CERCLA Section 117, 42 U.S.C. 9617. Community input has been sought by the DON throughout the cleanup process. The El Toro MCAS Restoration Advisory Board (RAB) serves as a focal point for the exchange of information about environmental restoration activities between the DON, regulatory agencies, and the local community. RAB members review technical reports and plans pertaining to the El Toro MCAS cleanup and provide input to the DON and the regulatory agencies. RAB members serve as volunteers and act as a liaison to the specific community they represent including various cities and homeowner associations in the vicinity of El Toro MCAS. All RAB meetings are open to the public and anyone interested may attend. They are held semi-annually on a Wednesday evening in April and November at the Irvine City Hall, One Civic Center Plaza.

Community involvement for the areas that are the subject of this document has occurred by soliciting public comment on various documents depending on the site's investigation and cleanup (if needed) process. All NFA decision documents were issued for 30-day public comment periods with comments, if any, addressed in the Responsiveness Summary of the Record of Decision. In addition, sites where non-time critical removal actions occurred provided public involvement with the issuance of the engineering evaluation/cost analysis for public comment.

Since there are a number of ongoing investigations and cleanup at El Toro MCAS, community involvement activities such as the biannual RAB meetings will continue to occur.

Determination That the Criteria for Deletion Have Been Met

The NCP (40 CFR 300.425(e)) states that a site may be deleted from the NPL when no further response action is necessary. EPA, in consultation with the State of California, has determined that all appropriate response actions under CERCLA have been completed on the properties proposed for deletion. Therefore, these portions of the former El Toro Marine Corps Air Station meet the criteria of 40 CFR 300.425(e) and may be deleted from the NPL. The State of California, through the DTSC, concurred on this proposed deletion by letter dated February 1, 2013.

V. Partial Deletion Action

The EPA, with concurrence of the State of California through the Department of Toxic Substances Control, has determined that all appropriate response actions under CERCLA have been completed. Therefore, EPA is deleting parcels I-A, II-A, III-A, II-J, II-Q, II-S, II-T, III-C, I-C, II-U, I-B, I-E, I-G, I-H, I-I, I-J, I-L, I-M, I-P, II-G, II-I, II-P, III-D,I-K, I-N, I-O, I-S, II-E, II-L, II-M, II-R, I-R, II-B, II-K, and II-O of the El Toro Marine Corp Air Station Site from the NPL.

Because EPA considers this action to be noncontroversial and routine, EPA is taking it without prior publication. This action will be effective January 21, 2014 unless EPA receives adverse comments by December 19, 2013. If adverse comments are received within the 30-day public comment period, EPA will publish a timely withdrawal of this direct final notice of partial deletion before the effective date of the partial deletion and it will not take effect. EPA will prepare a response to comments and continue with the deletion process on the basis of the notice of intent to partially delete and the comments already received. There will be no additional opportunity to comment.

List of Subjects in 40 CFR Part 300

Environmental protection, Air pollution control, Chemicals, Hazardous waste, Hazardous substances, Intergovernmental relations, Penalties, Reporting and recordkeeping requirements, Superfund, Water pollution control, Water supply.

Dated: October 22, 2013.
Jared Blumenfeld,
Regional Administrator Region IX.

For the reasons set out in this document, 40 CFR part 300 is amended as follows:

PART 300—[AMENDED]

1. The authority citation for part 300 continues to read as follows:

Authority: 33 U.S.C. 1321(c)(2); 42 U.S.C. 9601-9657; E.O. 12777, 56 FR 54757, 3 CFR 1991 Comp., p. 351; E.O. 12580, 52 FR 2923, 3 CFR 1987 Comp., p. 193.

Appendix B—[Amended]

2. Table 2 of Appendix B to part 300 is amended by revising the entry under “El Toro Marine Corps Air Station”, California to read as follows:

Appendix B to Part 300—National Priorities List

* * * * *

Table 2—Federal Facilities Section
State | Site name | City/county | Notes (a)
* * * * * * *
CA | El Toro Marine Corps Air Station | El Toro | P
* * * * * * *
(a) * * *
*P = Sites with partial deletion(s).

[FR Doc. 2013-27724 Filed 11-18-13; 8:45 am]

BILLING CODE 6560-50-P